DEPARTMENT OF TRANSPORTATION

Pipeline and Hazardous Materials Safety Administration

[Docket ID PHMSA-2016-0147]

Pipeline Safety: Random Drug Testing Rate; Contractor Management Information System Reporting; and Obtaining Drug and Alcohol Management Information System Sign-In Information

AGENCY: Pipeline and Hazardous Materials Safety Administration (PHMSA), DOT.

ACTION: Notice of Calendar Year 2017 Minimum Annual Percentage Rate for Random Drug Testing; Reminder for Operators To Report Contractor MIS Data; and Reminder of Method for Operators To Obtain User Name and Password for Electronic Reporting.

SUMMARY: PHMSA has determined that the minimum random drug testing rate for covered employees will remain at 25 percent during calendar year 2017. Operators are reminded that drug and alcohol testing information must be submitted for contractors performing or ready to perform covered functions. For calendar year 2016 reporting, PHMSA will not attempt to mail the “user name” and “password” for the Drug and Alcohol Management Information System (DAMIS) to operators, but will make the user name and password available in the PHMSA Portal (https://portal.phmsa.dot.gov/pipeline).

DATES: Effective January 1, 2017, through December 31, 2017.

FOR FURTHER INFORMATION CONTACT: Blaine Keener, Director of Safety Data Systems and Analysis, by telephone at 202-366-0970 or by email at blaine.keener@dot.gov.

SUPPLEMENTARY INFORMATION:

Notice of Calendar Year 2017 Minimum Annual Percentage Rate for Random Drug Testing

Operators of gas, hazardous liquid, and carbon dioxide pipelines and operators of liquefied natural gas facilities must randomly select and test a percentage of covered employees for prohibited drug use. Pursuant to 49 CFR 199.105(c)(2), (3), and (4), the PHMSA Administrator's decision on whether to change the minimum annual random drug testing rate is based on the reported random drug test positive rate for the pipeline industry. The data considered by the Administrator comes from operators' annual submissions of Management Information System (MIS) reports required by § 199.119(a). If the reported random drug test positive rate is less than one percent, the Administrator may continue the minimum random drug testing rate at 25 percent. In calendar year 2015, the random drug test positive rate was less than one percent. Therefore, the PHMSA minimum annual random drug testing selection rate will remain at 25 percent for calendar year 2017.

Reminder for Operators To Report Contractor MIS Data

On January 19, 2010, PHMSA published an Advisory Bulletin (75 FR 2926) implementing the annual collection of contractor MIS drug and alcohol testing data. An operator's report to PHMSA is not considered complete until an MIS report is submitted for each contractor that performed covered functions as defined in § 199.3.

Reminder of Method for Operators To Obtain User Name and Password for Electronic Reporting

In previous years, PHMSA attempted to mail the DAMIS user name and password to operator staff with responsibility for submitting DAMIS reports. Based on the number of phone calls to PHMSA each year requesting this information, the mailing process has not been effective. Pipeline operators have been submitting reports required by Parts 191 and 195 through the PHMSA Portal (https://portal.phmsa.dot.gov/pipeline) since 2011. Each company with an Office of Pipeline Safety issued Operator Identification Number should employ staff with access to the PHMSA Portal.

The user name and password required for an operator to access DAMIS and enter calendar year 2016 data will be available to all staff with access to the PHMSA Portal in late December 2016. When the DAMIS user name and password is available in the PHMSA Portal, all registered users will receive an email to that effect. Operator staff with responsibility for submitting DAMIS reports should coordinate with registered PHMSA Portal users to obtain the DAMIS user name and password. Registered PHMSA Portal users for an operator typically include the U.S. Department of Transportation Compliance Officer and staff or consultants with responsibility for submitting annual and incident reports on PHMSA F 7000- and 7100-series forms.

For operators that have failed to register staff in the PHMSA Portal for Parts 191 and 195 reporting purposes, operator staff responsible for submitting DAMIS reports can register in the PHMSA Portal by following the instructions at: http://opsweb.phmsa.dot.gov/portal_message/PHMSA_Portal_Registration.pdf.

Pursuant to §§ 199.119(a) and 199.229(a), operators with 50 or more covered employees, including both operator and contractor staff, are required to submit DAMIS reports annually. Operators with less than 50 total covered employees are required to report only upon written request from PHMSA. If an operator has submitted a calendar year 2014 or later DAMIS report with less than 50 total covered employees, the PHMSA Portal message may state that no calendar year 2016 DAMIS report is required. Some of these operators may have grown to more than 50 covered employees during calendar year 2016. The PHMSA Portal message will include instructions for how these operators can obtain a calendar year 2016 DAMIS user name and password.

Issued in Washington, DC, on December 21, 2016, under authority delegated in 49 CFR 1.97.
Alan K. Mayberry,
Associate Administrator for Pipeline Safety.

[FR Doc. 2016-31220 Filed 12-23-16; 8:45 am]

BILLING CODE 4910-60-P